DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before April 23, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Jack Powasnik, Deputy Director, Office of Standards, Regulations, and Variances at 202-693-9443 (Voice), powasnik.jack@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-006-C.

Petitioner: Bear Gap Coal Company, 74 Kushwa Road, Spring Glen, Pennsylvania 17978.

Mine: N & L Slope Mine, MSHA I.D. No. 36-02203, located in Northumberland County, Pennsylvania.

Regulation Affected: 30 CFR 75.1714-2(c) (Self-rescue devices; use and location requirements).

Modification Request: The petitioner requests a modification of the existing standard to permit the self-rescue devices to be stored within 60 feet of the working face. The petitioner states that in steeply pitching, conventional anthracite mines, entries are advanced as far as 60 feet vertically. The petitioner further states that the miner is exposed to trip and fall hazards and the necessity of carrying supplies up these narrow entries while wearing the self-contained self-rescuers (SCSRs), may result in damage to the SCSR and in a diminution of safety to the miner.

Docket Number: M-2008-007-C.

Petitioner: Bear Gap Coal Company, 74 Kushwa Road, Spring Glen, Pennsylvania 17978.

Mine: N & L Slope Mine, MSHA I.D. No. 36-02203, located in Northumberland County, Pennsylvania.

Regulation Affected: 30 CFR 75.1714-4(a), (b), (c), (d), and (e) (Additional self-contained self-rescuers (SCSRs).

Modification Request: The petitioner requests a modification of the existing standard to eliminate the requirement for providing an additional self-contained self-rescue (SCSR) device, and to eliminate the requirement for providing additional SCSRs on mantrips or mobile equipment and in alternate and primary escapeways, therefore eliminating the need for storage locations and for signs to be posted at each location. The petitioner states that: (i) An SCSR has never been used in an anthracite mine and no statistical data exists to support the need to use an SCSR; (ii) Anthracite coal is low in volatile matter and the lack of mechanization coupled with the reduced production capacity of anthracite mines has resulted in no significant liberation of explosive gases; (iii) The risk of fire at an underground anthracite mine is less than that of a city structure, therefore, the requirement for an additional SCSR cannot be justified; (iv) The potential hazard which would require wearing an SCSR and traveling the escapeway does not exist; (v) There is no hazard scenario where traveling the escapeway with an SCSR would be likely; and (vi) The travel time on foot from the working face through the primary escapeway is less than fifteen minutes. The petitioner further states that damp and wet conditions occur in the entire mine, and historically, fires in anthracite mines have not been a significant hazard as a result of the low volatile matter of the coal, which is reflected in numerous granted petitions for modification relating to firefighting.

The petitioner asserts that the proposed alternative method will in no way provide less than the same measure of protection than that afforded the miners under the existing standard.

Dated: March 18, 2008.
Jack Powasnik,
Deputy Director, Office of Standards, Regulations, and Variances.

[FR Doc. E8-5908 Filed 3-21-08; 8:45 am]

BILLING CODE 4510-43-P